DEPARTMENT OF COMMERCE

INTERNATIONAL TRADE ADMINISTRATION

[A-351-806]

Silicon Metal from Brazil; Final Results of Antidumping Duty Administrative Review

AGENCY: Import Administration, International Trade Administration, Department of Commerce.

ACTION: Notice of final results of antidumping duty administrative review.

SUMMARY: On August 6, 2001, the Department of Commerce (the Department) published the preliminary results of administrative review of the antidumping duty order on silicon metal from Brazil. The merchandise covered by this order is silicon metal from Brazil. The review covers four manufacturers/exporters, Rima Industrial SA (Rima), Companhia Ferroligas Minas Gerais - Minasligas (Minasligas), Ligas de Aluminia S.A. (LIASA) and Companhia Carbureto de Calcio (CBCC). The period of review (POR) is July 1, 1999, through June 30, 2000.

Based on our analysis of the comments received, we have made changes in the margin calculations. Therefore, the final results differ from the preliminary results. The final weighted-average dumping margins for the reviewed firm is listed below in the section entitled “Final Results of the Review.”

EFFECTIVE DATE: February 12, 2002.

FOR FURTHER INFORMATION CONTACT: Maisha Cryor, telephone: (202) 482-5831, Import Administration, International Trade Administration, U.S. Department of Commerce, Washington, D.C. 20230.

SUPPLEMENTARY INFORMATION:

The Applicable Statute

Unless otherwise indicated, all citations to the Tariff Act of 1930, as amended (the Act), are references to the provisions effective January 1, 1995, the effective date of the amendments made to the Act by the Uruguay Round Agreements Act (URAA). In addition, unless otherwise indicated, all citations to the Department's regulations are to 19 CFR Part 351 (2000).

Background

On August 6, 2001, the Department published the preliminary results of administrative review of the antidumping duty order on silicon metal from Brazil. See Preliminary Results of Antidumping Duty Administrative Review and Notice of Intent Not To Revoke Order in Part, 66 FR 40980 (August 6, 2001). The review covers four manufacturers/exporters, RIMA, Minasligas, LIASA and CBCC. The POR is July 1, 1999, through June 30, 2000. We invited parties to comment on our preliminary results of review. We received comments on November 21, 2001, from Rima, Minasligas, and CBCC (collectively respondents), and from American Silicon Technologies and Elkem Metals Company (collectively petitioners). On December 4, 2001, we received a rebuttal brief from petitioners and Rima, Minasligas and CBCC. On December 31, 2001, we received comments from petitioners concerning the Department's application of section 772(e) of the Act to CBCC's further manufactured sales in the preliminary results. On January 10, 2002, we received rebuttal comments from CBCC. In response to requests by petitioners, we issued a series of supplemental questionnaires to CBCC on January 2, 25 and 29 of 2002. We received supplemental responses from CBCC on January 10, 28 and 30 of 2002. We received comments from petitioners on CBCC's responses on February 1, 2002. We received comments from CBCC on petitioners comments on February 4, 2002. The Department has conducted this administrative review in accordance with section 751 of the Act.

Scope of Review

The merchandise covered by this administrative review is silicon metal from Brazil containing at least 96.00 percent but less than 99.99 percent silicon by weight. Also covered by this administrative review is silicon metal from Brazil containing between 89.00 and 96.00 percent silicon by weight but which contains more aluminum than the silicon metal containing at least 96.00 percent but less than 99.99 percent silicon by weight. Silicon metal is currently provided for under subheadings 2804.69.10 and 2804.69.50 of the Harmonized Tariff Schedule (HTS) as a chemical product, but is commonly referred to as a metal. Semiconductor grade silicon (silicon metal containing by weight not less than 99.99 percent silicon and provided for in subheading 2804.61.00 of the HTS) is not subject to the order. Although the HTS item numbers are provided for convenience and for U.S. Customs purposes, the written description remains dispositive.

Analysis of Comments Received

All issues raised in the case and rebuttal briefs by parties to this administrative review are addressed in the “Issues and Decision Memorandum” (“Decision Memorandum”) from Bernard T. Carreau, Deputy Assistant Secretary, Import Administration, to Faryar Shirzad, Assistant Secretary for Import Administration, dated February 4, 2002, which is hereby adopted by this notice. A list of the issues which parties have raised and to which we have responded, all of which are in the Decision Memorandum, is attached to this notice as an Appendix. Parties can find a complete discussion of all issues raised in this review and the corresponding recommendations in this public memorandum which is on file in the Central Records Unit, room B-099 (“B-099”) of the main Department building. In addition, a complete version of the Decision Memorandum can be accessed directly on the Web at www.ita.doc.gov/import_admin/records/frn/. The paper copy and electronic version of the Decision Memorandum are identical in content.

Changes Since the Preliminary Results

Based on our analysis of comments received, we have made certain changes in the margin calculations. These changes are discussed in the relevant sections of the “Decision Memorandum,” accessible in B-099 and on the Web at www.ita.doc.gov/import admin/records/frn/.

1. We recalculated Minasligas' home market imputed credit expense using a corrected formula.

2. We corrected the conversion of Minasligas' U.S. inland freight expense.

3. We recalculated Minasligas' home market credit expense using a surrogate interest rate.

4. We recalculated Minasligas' imputed U.S. credit expense using the date of liquidation as the date of payment.

5. We set Minasligas' negative imputed U.S. credit expenses equal to zero.

6. We recalculated the financial expense ratio in CBCC's cost of production (COP) using total financial expenses without any reduction for “financial income.”

7. We included interest revenue in the calculation of CBCC's net home market price.

8. We corrected the margin program to properly calculate CBCC's margin pursuant to the special rule.

9. We recalculated CBCC's home market credit expense using a surrogate interest rate.

10. We recalculated CBCC's home market imputed credit expense using the date of shipment from the factory as the date of shipment.

11. We recalculated Rima's general and administrative (G&A) expense ratio using its G&A expenses and annual cost of goods sold as reported on its financial statements.

12. We recalculated Rima's financial expense ratio using its financial expenses and annual cost of goods sold as reported on its financial statements.

13. We recalculated Rima's CV to include an amount for profit.

14. We converted Rima's gross unit price into the proper currency to calculate net U.S. price.

15. We recalculated Rima's home market selling expenses to divide by total cost.

16. We converted CBCC and Rima's U.S. packing costs into U.S. dollars.

17. We recalculated LIASA's home market credit expense using a surrogate interest rate.

Final Results of Review

We determine that the following percentage weighted-average margin exists for the period July 1, 1999, through June 30, 2000:

Manufacturer/exporter | Margin (percent)
RIMA | 0.35
MINASLIGAS | 1.23
LIASA | 0.00
CBCC | 0.02

The Department shall determine, and Customs shall assess, antidumping duties on all appropriate entries. In accordance with 19 CFR 351.212(b), we have calculated exporter/importer-specific assessment rates. Where the importer-specific assessment rate is above de minimis, we will instruct Customs to assess antidumping duties on that importer's entries of subject merchandise. To calculate assessment rates, we divided the total dumping margins for the reviewed sales by the total entered value of those reviewed sales for each importer. We will direct Customs to assess the resulting percentage margins against the entered Customs values for the subject merchandise on each of that importer's entries under the order during the review period.

Cash Deposit Requirements

The following deposit requirements will be effective upon publication of this notice of final results of administrative review for all shipments of silicon metal from Brazil entered, or withdrawn from warehouse, for consumption on or after the date of publication, as provided by section 751(a)(1) of the Act: (1) the cash deposit rate for the reviewed companies will be the rate shown above; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) the cash deposit rate for all other manufacturers or exporters will continue to be 8.10 percent. This rate is the “All Others” rate from the LTFV investigation. These deposit requirements shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective order (APO) of their responsibility concerning the disposition of proprietary information disclosed under APO in accordance with 19 CFR 351.305. Timely notification of return/destruction of APO materials or conversion to judicial protective order is hereby requested. Failure to comply with the regulations and the terms of an APO is a sanctionable violation.

We are issuing and publishing this determination and notice in accordance with sections section 751(a)(1) and 777(i) of the Act.

February 4, 2002
Faryar Shirzad,
Assistant Secretary for Import Administration.

Appendix Issues in Decision Memorandum

Minasligas

Comment 1: Short-Term Interest Rate

Comment 2: Advanced Exchange Contracts (ACCs) and Payment Dates

Comment 3: Duty Drawback

Comment 4: Offset to Financial Expense

Comment 5: Calculation of Home Market Imputed Credit Expense

Comment 6: Double Conversion of Inland Freight

Comment 7: COS Adjustment for PIS/COFINS

Comment 8: Duty Drawback and ICMS and IPI Taxes

CBCC

Comment 9: Shipment Date

Comment 10: Consolidated Financial Statement

Comment 11: Financial Expense Ratio

Comment 12: Short-Term Income Offset

Comment 13: Interest Revenue

Comment 14: Nature of Sales to an Unaffiliated Customer for Purposes of Determining an Appropriate and Reasonable Surrogate for Purposes of Section 772(e) of the Act

Comment 15: Related-party Transactions and Failure to Examine Documents at Verification

Comment 16: Calculation of EP for Use As a Surrogate Price Under Section 772(e) of the Act

Comment 17: Application of Special Rule in Margin Program

Comment 18: Calculation of Home Market Imputed Credit Expenses

Comment 19: Constructed Export Price (CEP) Profit

Rima

Comment 20: Major Input Rule

Comment 21: G&A Expenses

Comment 22: Net Financial Expenses

Comment 23: ICMS, IPI and CV

Comment 24: CV Profit

Comment 25: Currency

Comment 26: Home Market Selling Expenses

Comment 27: Commercial Quantities

Comment 28: Unreviewed and Intervening Years

Comment 29: Aggregate Sales and Commercial Quantities

Comment 30: Impermissible Rule Making and Violation of the APA with Respect to Commercial Quantities

Rima and CBCC

Comment 31: Home Market Credit and ICMS

Comment 32: Conversion of U.S. Packing Costs

[FR Doc. 02-3384 Filed 2-11-02; 8:45 am]

BILLING CODE 3510-DS-S